DEPARTMENT OF ENERGY

Federal Energy Regulatory Commission

Combined Notice of Filings #2

Take notice that the Commission received the following exempt wholesale generator filings:

Docket Numbers: EG16-128-000.

Applicants: Solverde 1, LLC.

Description: Solverde 1 Notice of Self-Certification of Exempt Wholesale Generator Status.

Filed Date: 7/15/16.

Accession Number: 20160715-5247.

Comments Due: 5 p.m. ET 8/5/16.

Docket Numbers: EG16-129-000.

Applicants: Antelope DSR 1, LLC.

Description: Antelope DSR 1 Notice of Self-Certification of Exempt Wholesale Generator Status.

Filed Date: 7/15/16.

Accession Number: 20160715-5248.

Comments Due: 5 p.m. ET 8/5/16.

Take notice that the Commission received the following electric rate filings:

Docket Numbers: ER15-2239-004.

Applicants: NextEra Energy Transmission West, LLC.

Description: Compliance filing: NextEra Energy Transmission West, LLC Compliance Filing to be effective 10/20/2015.

Filed Date: 7/18/16.

Accession Number: 20160718-5133.

Comments Due: 5 p.m. ET 8/8/16.

Docket Numbers: ER16-2194-000.

Applicants: Clinton Battery Utility, LLC.

Description: Baseline eTariff Filing: Clinton Battery Utility, LLC MBR Application to be effective 8/15/2016.

Filed Date: 7/14/16.

Accession Number: 20160714-5175.

Comments Due: 5 p.m. ET 8/4/16.

Docket Numbers: ER16-2224-000.

Applicants: Solverde 1, LLC.

Description: Baseline eTariff Filing: Solverde 1, LLC MBR Tariff to be effective 7/19/2016.

Filed Date: 7/18/16.

Accession Number: 20160718-5074.

Comments Due: 5 p.m. ET 8/8/16.

Docket Numbers: ER16-2225-000.

Applicants: Midcontinent Independent System Operator, Inc.

Description: Compliance filing: 2016-07-18 RSG Rhg Compliance Filing to be effective 4/1/2011.

Filed Date: 7/18/16.

Accession Number: 20160718-5093.

Comments Due: 5 p.m. ET 8/8/16.

Docket Numbers: ER16-2226-000.

Applicants: McHenry Battery Storage, LLC.

Description: Baseline eTariff Filing: McHenry Battery Storage Initial Baseline MBR Application & Notice Waiver Request to be effective 7/19/2016.

Filed Date: 7/18/16.

Accession Number: 20160718-5097.

Comments Due: 5 p.m. ET 8/8/16.

Docket Numbers: ER16-2227-000.

Applicants: Kelly Creek Wind, LLC.

Description: Baseline eTariff Filing: Kelly Creek Wind Initial Baseline MBR Application Filing to be effective 9/17/2016.

Filed Date: 7/18/16.

Accession Number: 20160718-5132.

Comments Due: 5 p.m. ET 8/8/16.

Docket Numbers: ER16-2228-000.

Applicants: PJM Interconnection, L.L.C.

Description: Tariff Cancellation: Notice of Cancellation of WMPA SA No. 3354, Queue No. X2-054 to be effective 9/13/2016.

Filed Date: 7/18/16.

Accession Number: 20160718-5140.

Comments Due: 5 p.m. ET 8/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2016.
Nathaniel J. Davis, Sr.,
Deputy Secretary.

[FR Doc. 2016-17526 Filed 7-25-16; 8:45 am]

BILLING CODE 6717-01-P